ENVIRONMENTAL PROTECTION AGENCY

[Docket ID Numbers EPA-HQ-OECA-2012-0496-0500, 0502, 0503, 0505, 0506, 0517-0519, 0524-0535; FRL-9714-2]

Agency Information Collection Activities: Request for Comments on Twenty-Four Proposed Information Collection Requests

AGENCY: Environmental Protection Agency (EPA)

ACTION: Notice.

SUMMARY: In compliance with the Paperwork Reduction Act (44 U.S.C. 3501 et seq.), this document announces that EPA is planning to submit the following twenty-four existing, approved, continuing Information Collection Requests (ICR) to the Office of Management and Budget (OMB) for the purpose of renewing the ICRs. Before submitting the ICRs to OMB for review and approval, EPA is soliciting comments on specific aspects of the information collections as described under SUPPLEMENTARY INFORMATION.

DATES: Comments must be submitted on or before October 9, 2012.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II. C.

SUPPLEMENTARY INFORMATION:

I. Submitting Comments

A. How can I access the docket and/or submit comments?

1. Docket Access Instructions

EPA has established a public docket for the ICRs listed in the SUPPLEMENTARY INFORMATION, section II. B. The docket is available for online viewing at http://www.regulations.gov, or in person viewing at the Enforcement and Compliance Docket and Information Center (ECDIC), in the EPA Docket Center (EPA/DC), EPA West, Room 3334, 1301 Constitution Avenue NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

2. Instructions for Submitting Comments

Submit your comments by one of the following methods:

(a) Electronic Submission: Access http://www.regulations.gov and follow the on-line instructions for submitting comments.

(b) Email: docket.oeca@epa.gov.

(c) Fax: (202) 566-1511.

(d) Mail: Enforcement and Compliance Docket and Information Center (ECDIC), Environmental Protection Agency, EPA Docket Center (EPA/DC), Mail code: 2201T, 1200 Pennsylvania Avenue NW., Washington, DC 20460.

(e) Hand Delivery: Enforcement and Compliance Docket and Information Center (ECDIC), Environmental Protection Agency, EPA Docket Center (EPA/DC), EPA West, Room 3334, 1301 Constitution Avenue NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II. B, and reference the OMB Control Number for the ICR. It is EPA's policy that all comments received will be included in the public docket without change and may be made available online at http://www.regulations.gov, including any personal information provided, unless the comment includes information claimed to be Confidential Business Information (CBI) or other information whose disclosure is restricted by statute. Do not submit information that you consider to be CBI or otherwise protected through www.regulations.gov or email. The http://www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What information is EPA particularly interested in?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

C. What should I consider when I prepare my comments for EPA?

You may find the following suggestions helpful for preparing comments:

(1) Explain your views as clearly as possible and provide specific examples.

(2) Describe any assumptions that you used.

(3) Provide copies of any technical information and/or data you used that support your views.

(4) If you estimate potential burden or costs, explain how you arrived at the estimate that you provide.

(5) Offer alternative ways to improve the collection activity.

(6) Make sure to submit your comments by the deadline identified under DATES.

(7) To ensure proper receipt by EPA, be sure to identify the docket ID number assigned to this action in the subject line on the first page of your response. You may also provide the name, date, and Federal Register citation.

II. ICRs To Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for EPA's regulations under Title 40 of the Code of Federal Regulations are published in the Federal Register, or on the related collection instrument or form. The display of OMB control numbers for certain EPA regulations is consolidated at 40 CFR part 9.

B. What information collection activity or ICR does this apply to?

In compliance with the Paperwork Reduction Act (44 U.S.C. 3501 et seq.), this notice announces that EPA is planning to submit the following twenty-four Information Collection Requests (ICR) to the Office of Management and Budget (OMB):

(1) Docket ID Number: EPA-HQ-OECA-2012-0518

Title: NESHAP for Metal Furniture Surface Coating (40 CFR Part 63, Subpart RRRR).

ICR Numbers: EPA ICR Number 1952.05, OMB Control Number 2060-0518.

ICR Status: This ICR is scheduled to expire on October 31, 2012.

(2) Docket ID Number: EPA-HQ-OECA-2012-0526.

Title: NESHAP for Aluminum, Copper and Other Non-Ferrous Metals Foundries (40 CFR Part 63, Subpart ZZZZZZ).

ICR Numbers: EPA ICR Number 2332.03, OMB Control Number 2060-0630.

ICR Status: This ICR is scheduled to expire on October 31, 2012.

(3) Docket ID Number: EPA-HQ-OECA-2012-0530.

Title: NSPS for Metal Furniture Coating (40 CFR Part 60, Subpart EE).

ICR Numbers: EPA ICR Number 0649.11, OMB Control Number 2060-0106.

ICR Status: This ICR is scheduled to expire on November 30, 2012.

(4) Docket ID Number: EPA-HQ-OECA-2012-0529.

Title: NESHAP for Mercury (40 CFR Part 61, Subpart E).

ICR Numbers: EPA ICR Number 0113.11, OMB Control Number 2060-0097.

ICR Status: This ICR is scheduled to expire on November 30, 2012.

(5) Docket ID Number: EPA-HQ-OECA-2012-0505.

Title: NESHAP for Secondary Aluminum Production (40 CFR Part 63, Subpart RRR).

ICR Numbers: EPA ICR Number 1894.07, OMB Control Number 2060-0433.

ICR Status: This ICR is scheduled to expire on November 30, 2012.

(6) Docket ID Number: EPA-HQ-OECA-2012-0532.

Title: NSPS for Beverage Can Surface Coating (40 CFR Part 60, Subpart WW).

ICR Numbers: EPA ICR Number 0663.11, OMB Control Number 2060-0001.

ICR Status: This ICR is scheduled to expire on December 31, 2012.

(7) Docket ID Number: EPA-HQ-OECA-2012-0517.

Title: NSPS for Emission Guidelines and Compliance Times for Small Municipal Waste Combustion Units Constructed on or Before August 30, 1999 (40 CFR Part 60, Subpart BBBB).

ICR Numbers: EPA ICR Number 1901.05, OMB Control Number 2060-0424.

ICR Status: This ICR is scheduled to expire on December 31, 2012.

(8) Docket ID Number: EPA-HQ-OECA-2012-0531.

Title: NSPS for Surface Coating of Large Appliance (40 CFR Part 60, Subpart SS).

ICR Numbers: EPA ICR Number 0659.12, OMB Control Number 2060-0108.

ICR Status: This ICR is scheduled to expire on December 31, 2012.

(9) Docket ID Number: EPA-HQ-OECA-2012-0528.

Title: NSPS for Synthetic Fiber Production Facilities (40 CFR Part 60, Subpart HHH).

ICR Numbers: EPA ICR Number 1156.12, OMB Control Number 2060-0059.

ICR Status: This ICR is scheduled to expire on December 31, 2012.

(10) Docket ID Number: EPA-HQ-OECA-2012-0535.

Title: NSPS for Secondary Lead Smelters (40 CFR Part 60, Subpart L).

ICR Numbers: EPA ICR Number 1128.10, OMB Control Number 2060-0080.

ICR Status: This ICR is scheduled to expire on January 31, 2013.

(11) Docket ID Number: EPA-HQ-OECA-2012-0506.

Title: NSPS for Small Municipal Waste Combustors (40 CFR Part 60, Subpart AAAA).

ICR Numbers: EPA ICR Number 1900.05, OMB Control Number 2060-0423.

ICR Status: This ICR is scheduled to expire on January 31, 2013.

(12) Docket ID Number: EPA-HQ-OECA-2012-0524.

Title: NSPS for Stationary Combustion Turbines (40 CFR Part 60, Subpart KKKK).

ICR Numbers: EPA ICR Number 2177.05, OMB Control Number 2060-0582.

ICR Status: This ICR is scheduled to expire on January 31, 2013.

(13) Docket ID Number: EPA-HQ-OECA-2012-0533.

Title: NSPS for the Phosphate Fertilizer Industry (40 CFR Part 60, Subparts T, U, V, W and X).

ICR Numbers: EPA ICR Number 1061.12, OMB Control Number 2060-0037.

ICR Status: This ICR is scheduled to expire on January 31, 2013.

(14) Docket ID Number: EPA-HQ-OECA-2012-0497.

Title: NSPS for Fossil Fuel Fired Steam Generating Units (40 CFR Part 60, Subpart D).

ICR Numbers: EPA ICR Number 1052.10, OMB Control Number 2060-0026.

ICR Status: This ICR is scheduled to expire on January 31, 2013.

(15) Docket ID Number: EPA-HQ-OECA-2012-0500.

Title: NESHAP for the Secondary Lead Smelter Industry (40 CFR Part 63, Subpart X).

ICR Numbers: EPA ICR Number 1686.10, OMB Control Number 2060-0296.

ICR Status: This ICR is scheduled to expire on January 31, 2013.

(16) Docket ID Number: EPA-HQ-OECA-2012-0499.

Title: NSPS for Industrial/Commercial/Institutional Steam Generating Units (40 CFR Part 60, Subpart Db).

ICR Numbers: EPA ICR Number 1088.13, OMB Control Number 2060-0072.

ICR Status: This ICR is scheduled to expire on January 31, 2013.

(17) Docket ID Number: EPA-HQ-OECA-2012-0502.

Title: NSPS for Hospital/Medical/Infectious Waste Incinerators (40 CFR Part 60, Subpart Ec).

ICR Numbers: EPA ICR Number 1730.09, OMB Control Number 2060-0363.

ICR Status: This ICR is scheduled to expire on January 31, 2013.

(18) Docket ID Number: EPA-HQ-OECA-2012-0534.

Title: NSPS for Surface Coating of Plastic Parts for Business Machines (40 CFR Part 60, Subpart TTT).

ICR Numbers: EPA ICR Number 1093.10, OMB Control Number 2060-0162.

ICR Status: This ICR is scheduled to expire on January 31, 2013.

(19) Docket ID Number: EPA-HQ-OECA-2012-0498.

Title: NSPS for Coal Preparation and Processing Plants (40 CFR Part 60, Subpart Y).

ICR Numbers: EPA ICR Number 1062.13, OMB Control Number 2060-0122.

ICR Status: This ICR is scheduled to expire on February 28, 2013.

(20) Docket ID Number: EPA-HQ-OECA-2012-0503.

Title: Emission Guidelines for Large Municipal Waste Combustors Constructed on or Before September 20, 1994 (40 CFR Part 60, Subpart Cb).

ICR Numbers: EPA ICR Number 1847.06, OMB Control Number 2060-0390.

ICR Status: This ICR is scheduled to expire on February 28, 2013.

(21) Docket ID Number: EPA-HQ-OECA-2012-0519.

Title: NESHAP for Miscellaneous Organic Chemical Manufacturing (40 CFR Part 63, Subpart FFFF).

ICR Numbers: EPA ICR Number 1969.05, OMB Control Number 2060-0533.

ICR Status: This ICR is scheduled to expire on February 28, 2013.

(22) Docket ID Number: EPA-HQ-OECA-2012-0527.

Title: NESHAP for Paints and Allied Products Manufacturing Area Source Category (40 CFR Part 63, Subpart CCCCCCC).

ICR Numbers: EPA ICR Number 2348.03, OMB Control Number 2060-0633.

ICR Status: This ICR is scheduled to expire on February 28, 2013.

(23) Docket ID Number: EPA-HQ-OECA-2012-0525.

Title: NESHAP for Chemical Manufacturing Area Sources (40 CFR Part 63, Subpart VVVVVV).

ICR Numbers: EPA ICR Number 2323.04, OMB Control Number 2060-0621.

ICR Status: This ICR is scheduled to expire on February 28, 2013.

(24) Docket ID Number: EPA-HQ-OECA-2012-0496.

Title: NESHAP for Asphalt Processing and Asphalt Roofing Manufacturing (40 CFR Part 63, Subpart AAAAAAA).

ICR Numbers: EPA ICR Number 2352.03, OMB Control Number 2060-0634.

ICR Status: This ICR is scheduled to expire on February 28, 2013.

C. Contact Individuals for ICRs

(1) NESHAP for Metal Furniture Surface Coating (40 CFR Part 63, Subpart RRRR); Learia Williams of the Office of Compliance at (202) 564-4113 or via Email to: williams.learia@epa.gov; EPA ICR Number 1952.05; OMB Control Number 2060-0518; expiration date October 31, 2012.

(2) NESHAP for Aluminum, Copper and Other Non-Ferrous Metals Foundries (40 CFR Part 63, Subpart ZZZZZZ); Learia Williams of the Office of Compliance at (202) 564-4113 or via Email to: williams.learia@epa.gov; EPA ICR Number 2332.03; OMB Control Number 2060-0630; expiration date October 31, 2012.

(3) NSPS for Metal Furniture Coating (40 CFR Part 60, Subpart EE); Learia Williams of the Office of Compliance at (202) 564-4113 or via Email to: williams.learia@epa.gov; EPA ICR Number 0649.11; OMB Control Number 2060-0106; expiration date November 30, 2012.

(4) NESHAP for Mercury (40 CFR Part 61, Subpart E); Learia Williams of the Office of Compliance at (202) 564-4113 or via Email to: williams.learia@epa.gov; EPA ICR Number 0113.11; OMB Control Number 2060-0097; expiration date November 30, 2012.

(5) NESHAP for Secondary Aluminum Production (40 CFR Part 63, Subpart RRR); Learia Williams of the Office of Compliance at (202) 564-4113 or via Email to: williams.learia@epa.gov; EPA ICR Number 1894.07; OMB Control Number 2060-0433; expiration date November 30, 2012.

(6) NSPS for Beverage Can Surface Coating (40 CFR Part 60, Subpart WW); Learia Williams of the Office of Compliance at (202) 564-4113 or via Email to: williams.learia@epa.gov; EPA ICR Number 0663.11; OMB Control Number 2060-0001; expiration date December 31, 2012.

(7) NSPS for Emission Guidelines and Compliance Times for Small Municipal Waste Combustion Units Constructed on or Before August 30, 1999 (40 CFR Part 60, Subpart BBBB); Learia Williams of the Office of Compliance at (202) 564-4113 or via Email to: williams.learia@epa.gov; EPA ICR Number 1901.05; OMB Control Number 2060-0424; expiration date December 31, 2012.

(8) NSPS for Surface Coating of Large Appliance (40 CFR Part 60, Subpart SS); Learia Williams of the Office of Compliance at (202) 564-4113 or via Email to: williams.learia@epa.gov; EPA ICR Number 0659.12; OMB Control Number 2060-0108; expiration date December 31, 2012.

(9) NSPS for Synthetic Fiber Production Facilities (40 CFR Part 60, Subpart HHH); Learia Williams of the Office of Compliance at (202) 564-4113 or via Email to: williams.learia@epa.gov; EPA ICR Number 1156.12; OMB Control Number 2060-0059; expiration date December 31, 2012.

(10) NSPS for Secondary Lead Smelters (40 CFR Part 60, Subpart L); Learia Williams of the Office of Compliance at (202) 564-4113 or via Email to: williams.learia@epa.gov; EPA ICR Number 1128.10; OMB Control Number 2060-0080; expiration date January 31, 2013.

(11) NSPS for Small Municipal Waste Combustors (40 CFR Part 60, Subpart AAAA); Learia Williams of the Office of Compliance at (202) 564-4113 or via Email to: williams.learia@epa.gov; EPA ICR Number 1900.05; OMB Control Number 2060-0423; expiration date January 31, 2013.

(12) NSPS for Stationary Combustion Turbines (40 CFR Part 60, Subpart KKKK); Learia Williams of the Office of Compliance at (202) 564-4113 or via Email to: williams.learia@epa.gov; EPA ICR Number 2177.05; OMB Control Number 2060-0582; expiration date January 31, 2013.

(13) NSPS for the Phosphate Fertilizer Industry (40 CFR Part 60, Subparts T, U, V, W and X); Learia Williams of the Office of Compliance at (202) 564-4113 or via Email to: williams.learia@epa.gov; EPA ICR Number 1061.12; OMB Control Number 2060-0037; expiration date January 31, 2013.

(14) NSPS for Fossil Fuel Fired Steam Generating Units (40 CFR Part 60, Subpart D); Learia Williams of the Office of Compliance at (202) 564-4113 or via Email to: williams.learia@epa.gov; EPA ICR Number 1052.10; OMB Control Number 2060-0026; expiration date January 31, 2013.

(15) NESHAP for the Secondary Lead Smelter Industry (40 CFR Part 63, Subpart X); Learia Williams of the Office of Compliance at (202) 564-4113 or via Email to: williams.learia@epa.gov; EPA ICR Number 1686.10; OMB Control Number 2060-0296; expiration date January 31, 2013.

(16) NSPS for Industrial/Commercial/Institutional Steam Generating Units (40 CFR Part 60, Subpart Db); Learia Williams of the Office of Compliance at (202) 564-4113 or via Email to: williams.learia@epa.gov; EPA ICR Number 1088.13; OMB Control Number 2060-0072; expiration date January 31, 2013.

(17) NSPS for Hospital/Medical/Infectious Waste Incinerators (40 CFR Part 60, Subpart Ec); Learia Williams of the Office of Compliance at (202) 564-4113 or via Email to: williams.learia@epa.gov; EPA ICR Number 1730.09; OMB Control Number 2060-0363; expiration date January 31, 2013.

(18) NSPS for Surface Coating of Plastic Parts for Business Machines (40 CFR Part 60, Subpart TTT); Learia Williams of the Office of Compliance at (202) 564-4113 or via Email to: williams.learia@epa.gov; EPA ICR Number 1093.10; OMB Control Number 2060-0162; expiration date January 31, 2013.

(19) NSPS for Coal Preparation and Processing Plants (40 CFR Part 60, Subpart Y); Learia Williams of the Office of Compliance at (202) 564-4113 or via Email to: williams.learia@epa.gov; EPA ICR Number 1062.13; OMB Control Number 2060-0122; expiration date February 28, 2013.

(20) Emission Guidelines for Large Municipal Waste Combustors Constructed on or Before September 20, 1994 (40 CFR Part 60, Subpart Cb); Learia Williams of the Office of Compliance at (202) 564-4113 or via Email to: williams.learia@epa.gov; EPA ICR Number 1847.06; OMB Control Number 2060-0390; expiration date February 28, 2013.

(21) NESHAP for Miscellaneous Organic Chemical Manufacturing (40 CFR Part 63, Subpart FFFF); Learia Williams of the Office of Compliance at (202) 564-4113 or via Email to: williams.learia@epa.gov; EPA ICR Number 1969.05; OMB Control Number 2060-0533; expiration date February 28, 2013.

(22) NESHAP for Paints and Allied Products Manufacturing Area Source Category (40 CFR Part 63, Subpart CCCCCCC); Learia Williams of the Office of Compliance at (202) 564-4113 or via Email to: williams.learia@epa.gov; EPA ICR Number 2348.03; OMB Control Number 2060-0633; expiration date February 28, 2013.

(23) NESHAP for Chemical Manufacturing Area Sources (40 CFR Part 63, Subpart VVVVVV); Learia Williams of the Office of Compliance at (202) 564-4113 or via Email to: williams.learia@epa.gov; EPA ICR Number 2323.04; OMB Control Number 2060-0621; expiration date February 28, 2013.

(24) NESHAP for Asphalt Processing and Asphalt Roofing Manufacturing (40 CFR Part 63, Subpart AAAAAAA); Learia Williams of the Office of Compliance at (202) 564-4113 or via Email to: williams.learia@epa.gov; EPA ICR Number 2352.03; OMB Control Number 2060-0634; expiration date February 28, 2013.

D. Information for Individual ICRs

(1) NESHAP for Metal Furniture Surface Coating (40 CFR Part 63, Subpart RRRR); Docket ID Number: EPA-HQ-OECA-2012-0518; EPA ICR Number 1952.05; OMB Control Number 2060-0518; expiration date October 31, 2012.

Affected Entities: Entities potentially affected by this action are the owners or operators of facilities that perform metal furniture surface coating operations.

Abstract: The affected entities are subject to the General Provisions of the NESHAP at 40 CFR part 63, subpart A, and any changes, or additions to the General Provisions specified at 40 CFR part 63, subpart RRRR.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 109 hours per response.

Respondents/Affected Entities: Metal furniture surface coating facilities

Estimated Number of Respondents: 583

Frequency of Response: Initially, occasionally and semiannually

Estimated Total Annual Hour Burden: 190,408

Estimated Total Annual Cost: $16,826,397, which includes $16,126,797 in labor costs, no capital/startup costs, and $699,600 in operating and maintenance costs.

(2) NESHAP for Aluminum, Copper and Other Non-Ferrous Metals Foundries (40 CFR Part 63, Subpart ZZZZZZ); Docket ID Number: EPA-HQ-OECA-2012-0526; EPA ICR Number 2332.03; OMB Control Number 2060-0630; expiration date October 31, 2012.

Affected Entities: Entities potentially affected by this action are the owners or operators of aluminum, copper, or other non-ferrous metal foundries.

Abstract: The affected entities are subject to the General Provisions of the NESHAP at 40 CFR part 63, subpart A, and any changes, or additions to the General Provisions specified at 40 CFR part 63, subpart ZZZZZZ.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 17 hours per response.

Respondents/Affected Entities: Aluminum, copper and other non-ferrous metal foundries

Estimated Number of Respondents: 318

Frequency of Response: Initially and occasionally

Estimated Total Annual Hour Burden: 7,160

Estimated Total Annual Cost: $408,855, which includes $408,855 in labor costs, no capital/startup costs, and no operating and maintenance costs.

(3) NSPS for Metal Furniture Coating (40 CFR Part 60, Subpart EE); Docket ID Number EPA-HQ-OECA-2012-0530; EPA ICR Number 0649.11; OMB Control Number 2060-0106; expiration date November 30, 2012.

Affected Entities: Entities potentially affected by this action are the owners or operators of metal furniture surface coating facilities.

Abstract: The affected entities are subject to the General Provisions of the NSPS at 40 CFR part 60, subpart A and any changes, or additions to the General Provisions specified at 40 CFR part 60, subpart EE.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 58 hours per response.

Respondents/Affected Entities: Metal furniture surface coating facilities

Estimated Number of Respondents: 400

Frequency of Response: Initially, occasionally and semiannually

Estimated Total Annual Hour Burden: 56,074

Estimated Total Annual Cost: $5,589,248, which includes $4,749,248 in labor costs, no capital/startup costs, and $840,000 in operating and maintenance costs.

(4) NESHAP for Mercury (40 CFR Part 61, Subpart E); Docket ID Number: EPA-HQ-OECA-2012-0529; EPA ICR Number 0113.11; OMB Control Number 2060-0097; expiration date November 30, 2012.

Affected Entities: Entities potentially affected by this action are the owners or operators of stationary sources which process mercury ore to recover mercury, use mercury chlor-alkali cells to produce chlorine gas and alkali metal hydroxide, and incinerate or dry wastewater treatment plant sludge.

Abstract: The affected entities are subject to the General Provisions of the NESHAP at 40 CFR part 63, subpart A, and any changes, or additions to the General Provisions specified at 40 CFR part 61, subpart E.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 160 hours per response.

Respondents/Affected Entities: Stationary sources which process mercury ore to recover mercury, use mercury chlor-alkali cells to produce chlorine gas and alkali metal hydroxide, and incinerate or dry wastewater treatment plant sludge

Estimated Number of Respondents: 107

Frequency of Response: Initially, semiannually and annually

Estimated Total Annual Hour Burden: 20,490

Estimated Total Annual Cost: $1,735,421, which includes $1,735,421 in labor costs, no capital/startup costs, and no operating and maintenance costs.

(5) NESHAP for Secondary Aluminum Production (40 CFR Part 63, Subpart RRR); Docket ID Number: EPA-HQ-OECA-2012-0505; EPA ICR Number 1894.07; OMB Control Number 2060-0433; expiration date November 30, 2012.

Affected Entities: Entities potentially affected by this action are the owners or operators of secondary aluminum production plants.

Abstract: The affected entities are subject to the General Provisions of the NESHAP at 40 CFR part 63, subpart A, and any changes, or additions to the General Provisions specified at 40 CFR part 63, subpart RRR.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 29 hours per response.

Respondents/Affected Entities: Secondary aluminum production plants

Estimated Number of Respondents: 1,624

Frequency of Response: Initially, occasionally and semiannually

Estimated Total Annual Hour Burden: 93,725

Estimated Total Annual Cost: $8,163,900, which includes $7,938,150 in labor costs, $84,000 in capital/startup costs, and $141,750 in operating and maintenance costs.

(6) NSPS for Beverage Can Surface Coating (40 CFR Part 60, Subpart WW); Docket ID Number EPA-HQ-OECA-2012-0532; EPA ICR Number 0663.11; OMB Control Number 2060-0001; expiration date December 31, 2012.

Affected Entities: Entities potentially affected by this action are the owners or operators of beverage can surface coating facilities.

Abstract: The affected entities are subject to the General Provisions of the NSPS at 40 CFR part 60, subpart A and any changes, or additions to the General Provisions specified at 40 CFR part 60, subpart WW.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 43 hours per response.

Respondents/Affected Entities: Beverage can surface coating facilities

Estimated Number of Respondents: 48

Frequency of Response: Initially, occasionally and semiannually

Estimated Total Annual Hour Burden: 5,134

Estimated Total Annual Cost: $515,230, which includes $414,430 in labor costs, no capital/startup costs, and $100,800 in operating and maintenance costs.

(7) NSPS for Emission Guidelines and Compliance Times for Small Municipal Waste Combustion Units Constructed on or Before August 30, 1999 (40 CFR Part 60, Subpart BBBB); Docket ID Number EPA-HQ-OECA-2012-0517; EPA ICR Number 1901.05, OMB Control Number 2060-0424; expiration date December 31, 2012.

Affected Entities: Entities potentially affected by this action are the owners or operators of small municipal waste combustion units.

Abstract: The affected entities are subject to the General Provisions of the NSPS at 40 CFR part 60, subpart A and any changes, or additions to the General Provisions specified at 40 CFR part 60, subpart BBBB.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 1,709 hours per response.

Respondents/Affected Entities: Owners and operators of small municipal waste combustion units

Estimated Number of Respondents: 23

Frequency of Response: Initially, occasionally, semiannually and annually

Estimated Total Annual Hour Burden: 100,854

Estimated Total Annual Cost: $9,578,726, which includes $8,541,926 in labor costs, no capital/startup costs, and $1,036,800 in operating and maintenance costs.

(8) NSPS for Surface Coating of Large Appliance (40 CFR Part 60, Subpart SS); Docket ID Number EPA-HQ-OECA-2012-0531; EPA ICR Number 0659.12, OMB Control Number 2060-0108; expiration date December 31, 2012.

Affected Entities: Entities potentially affected by this action are the owners or operators for surface coating of large appliance facilities.

Abstract: The affected entities are subject to the General Provisions of the NSPS at 40 CFR part 60, subpart A and any changes, or additions to the General Provisions specified at 40 CFR part 60, subpart SS.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 53 hours per response.

Respondents/Affected Entities: Surface coating of large appliance facilities

Estimated Number of Respondents: 72

Frequency of Response: Occasionally and semiannually

Estimated Total Annual Hour Burden: 7,659

Estimated Total Annual Cost: $657,087, which includes $648,687 in labor costs, no capital/startup costs, $8,400 in operating and maintenance costs.

(9) NSPS for Synthetic Fiber Production Facilities (40 CFR Part 60, Subpart HHH); Docket ID Number EPA-HQ-OECA-2012-0528; EPA ICR Number 1156.12; OMB Control Number 2060-0059; expiration date December 31, 2012.

Affected Entities: Entities potentially affected by this action are the owners or operators of synthetic fiber production facilities.

Abstract: The affected entities are subject to the General Provisions of the NSPS at 40 CFR part 60, subpart A and any changes, or additions to the General Provisions specified at 40 CFR part 60, subpart HHH.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 34 hours per response.

Respondents/Affected Entities: Synthetic fiber production facilities

Estimated Number of Respondents: 22

Frequency of Response: Occasionally, quarterly and semiannually

Estimated Total Annual Hour Burden: 1,859

Estimated Total Annual Cost: $315,119, which includes $150,119 in labor costs, no capital/startup costs, and $165,000 in operating and maintenance costs.

(10) NSPS for Secondary Lead Smelters (40 CFR Part 60, Subpart L); Docket ID Number EPA-HQ-OECA-2012-0535; EPA ICR Number 1128.10, OMB Control Number 2060-0080; expiration date January 31, 2013.

Affected Entities: Entities potentially affected by this action are the owners or operators of secondary lead smelting facilities.

Abstract: The affected entities are subject to the General Provisions of the NSPS at 40 CFR part 60, subpart A and any changes, or additions to the General Provisions specified at 40 CFR part 60, subpart L.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 2 hours per response.

Respondents/Affected Entities: Secondary lead smelting facilities

Estimated Number of Respondents: 25

Frequency of Response: Initially and occasionally

Estimated Total Annual Hour Burden: 38

Estimated Total Annual Cost: $3,538, which includes $3,538 in labor costs, no capital/startup costs, and no operating and maintenance costs.

(11) NSPS for Small Municipal Waste Combustors (40 CFR Part 60, Subpart AAAA); Docket ID Number EPA-HQ-OECA-2012-0506; EPA ICR Number 1900.05, OMB Control Number 2060-0423; expiration date January 31, 2013.

Affected Entities: Entities potentially affected by this action are the owners or operators of small municipal waste combustors.

Abstract: The affected entities are subject to the General Provisions of the NSPS at 40 CFR part 60, subpart A and any changes, or additions to the General Provisions specified at 40 CFR part 60, subpart AAAA.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 1,108 hours per response.

Respondents/Affected Entities: Owners and operators of small municipal waste combustors

Estimated Number of Respondents: 2

Frequency of Response: Initially, occasionally, semiannually and annually

Estimated Total Annual Hour Burden: 9,975

Estimated Total Annual Cost: $1,087,204, which includes $938,068 in labor costs, $66,000 in capital/startup costs, and $83,136 in operating and maintenance costs.

(12) NSPS for Stationary Combustion Turbines (40 CFR Part 60, Subpart KKKK); Docket ID Number EPA-HQ-OECA-2012-0524; EPA ICR Number 2177.05, OMB Control Number 2060-0582; expiration date January 31, 2013.

Affected Entities: Entities potentially affected by this action are the owners or operators of stationary combustion turbines.

Abstract: The affected entities are subject to the General Provisions of the NSPS at 40 CFR part 60, subpart A and any changes, or additions to the General Provisions specified at 40 CFR part 60, subpart KKKK.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 37 hours per response.

Respondents/Affected Entities: Owners and operators of stationary combustion turbines

Estimated Number of Respondents: 307

Frequency of Response: Semiannually

Estimated Total Annual Hour Burden: 32,075

Estimated Total Annual Cost: $2,983,850, which includes $2,983,850 in labor costs, no capital/startup costs, and no operating and maintenance costs.

(13) NSPS for Phosphate Fertilizer Industry (40 CFR Part 60, Subparts T,U,V,W and X); Docket ID Number EPA-HQ-OECA-2012-0533; EPA ICR Number 1061.12, OMB Control Number 2060-0037; expiration date January 31, 2013.

Affected Entities: Entities potentially affected by this action are the owners or operators of wet-process phosphoric acid plants, superphosphoric acid plants, granular diammonium phosphate plants, triple superphosphate plants and granular triple superphosphate storage facilities.

Abstract: The affected entities are subject to the General Provisions of the NSPS at 40 CFR part 60, subpart A and any changes, or additions to the General Provisions specified at 40 CFR part 60, subparts T, U, V, W and X.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 46 hours per response.

Respondents/Affected Entities: Wet-process phosphoric acid plants, superphosphoric acid plants, granular diammonium phosphate plants, triple superphosphate plants and granular triple superphosphate storage facilities

Estimated Number of Respondents: 13

Frequency of Response: Initially, occasionally and semiannually

Estimated Total Annual Hour Burden: 1,194

Estimated Total Annual Cost: $437,702, which includes $117,512 in labor costs, no capital/startup costs, and $320,190 in operating and maintenance costs.

(14) NSPS for Fossil Fuel Fired Stream Generating Units (40 CFR Part 60, Subpart D); Docket ID Number EPA-HQ-OECA-2012-0497; EPA ICR Number 1052.10; OMB Control Number 2060-0026; expiration date January 31, 2013.

Affected Entities: Entities potentially affected by this action are the owners or operators of fossil fuel fired steam generating units.

Abstract: The affected entities are subject to the General Provisions of the NSPS at 40 CFR part 60, subpart A and any changes, or additions to the General Provisions specified at 40 CFR part 60, subpart D.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 47 hours per response.

Respondents/Affected Entities: Owners and operators of fossil fueled fired steam generating units

Estimated Number of Respondents: 660

Frequency of Response: Initially, occasionally and semiannually

Estimated Total Annual Hour Burden: 61,545

Estimated Total Annual Cost: $15,688,147, which includes $5,788,147 in labor costs, no capital/startup costs, and $9,900,000 in operating and maintenance costs.

(15) NESHAP for Secondary Lead Smelter Industry (40 CFR Part 63, Subpart X); Docket ID Number: EPA-HQ-OECA-2012-0500; EPA ICR Number 1686.10; OMB Control Number 2060-0296; expiration date January 31, 2013.

Affected Entities: Entities potentially affected by this action are the owners or operators of secondary lead smelting facilities.

Abstract: The affected entities are subject to the General Provisions of the NESHAP at 40 CFR part 63, subpart A, and any changes, or additions to the General Provisions specified at 40 CFR part 63, subpart X.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 214 hours per response.

Respondents/Affected Entities: Owners or operations of industrial, commercial or institutional steam generating units

Estimated Number of Respondents: 1,500

Frequency of Response: Initially, occasionally, quarterly and semiannually

Estimated Total Annual Hour Burden: 771,889

Estimated Total Annual Cost: $1,379,153, which includes $788,873 in labor costs, $105,800 in capital/startup costs, and $484,480 in operating and maintenance costs.

(16) NSPS for Industrial/Commercial/Institutional Steam Generating Units (40 CFR Part 60, Subpart Db); Docket ID Number EPA-HQ-OECA-2012-0499; EPA ICR Number 1088.13; OMB Control Number 2060-0072; expiration date January 31, 2013.

Affected Entities: Entities potentially affected by this action are the owners or operators of industrial, commercial or institutional steam generating units.

Abstract: The affected entities are subject to the General Provisions of the NSPS at 40 CFR part 60, subpart A and any changes, or additions to the General Provisions specified at 40 CFR part 60, subpart Db.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 47 hours per response.

Respondents/Affected Entities: Owners and operators of fossil fueled fired steam generating units.

Estimated Number of Respondents: 660

Frequency of Response: Initially, occasionally and semiannually

Estimated Total Annual Hour Burden: 61,545

Estimated Total Annual Cost: $94,838,557, which includes $63,338,557 in labor costs, $9,000,000 in capital/startup costs, and $22,500,000 in operating and maintenance costs.

(17) NSPS for Hospital/Medical/Infectious Waste Incinerators (40 CFR Part 60, Subpart Ec); Docket ID Number EPA-HQ-OECA-2012-0502; EPA ICR Number 1730.09; OMB Control Number 2060-0363; expiration date January 31, 2013.

Affected Entities: Entities potentially affected by this action are the owners or operators of hospital, medical or infectious waste incinerators.

Abstract: The affected entities are subject to the General Provisions of the NSPS at 40 CFR part 60, subpart A and any changes, or additions to the General Provisions specified at 40 CFR part 60, subpart Ec.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 113 hours per response.

Respondents/Affected Entities: Owners and operators of hospital, medical or infectious waste incinerators

Estimated Number of Respondents: 3

Frequency of Response: Initially, occasionally, semiannually and annually

Estimated Total Annual Hour Burden: 2,705

Estimated Total Annual Cost: $356,403, which includes $102,553 in labor costs, $137,658 in capital/startup costs, and $116,192 in operating and maintenance costs.

(18) NSPS for Surface Coating of Plastic Parts for Business Machines (40 CFR Part 60, Subpart TTT); Docket ID Number EPA-HQ-OECA-2012-0534; EPA ICR Number 1093.10; OMB Control Number 2060-0162; expiration date January 31, 2013.

Affected Entities: Entities potentially affected by this action are the owners or operators of facilities that apply coatings to plastic parts for use in the manufacture of business machines.

Abstract: The affected entities are subject to the General Provisions of the NSPS at 40 CFR part 60, subpart A and any changes, or additions to the General Provisions specified at 40 CFR part 60, subpart TTT.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 35 hours per response.

Respondents/Affected Entities: Owners or operators of facilities that apply coatings to plastic parts for use in the manufacture of business machines

Estimated Number of Respondents: 10

Frequency of Response: Quarterly and semiannually

Estimated Total Annual Hour Burden: 978

Estimated Total Annual Cost: $92,296, which includes $92,296 in labor costs, no capital/startup costs, and no operating and maintenance costs.

(19) NSPS for Coal Preparation and Processing Plants (40 CFR Part 60, Subpart Y); Docket ID Number EPA-HQ-OECA-2012-0498; EPA ICR Number 1062.13; OMB Control Number 2060-0122; expiration date February 28, 2013.

Affected Entities: Entities potentially affected by this action are the owners or operators of coal preparation and processing plants.

Abstract: The affected entities are subject to the General Provisions of the NSPS at 40 CFR part 60, subpart A and any changes, or additions to the General Provisions specified at 40 CFR part 60, subpart Y.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 21 hours per response.

Respondents/Affected Entities: Coal preparation and processing plants.

Estimated Number of Respondents: 1,027

Frequency of Response: Initially, semiannually and annually

Estimated Total Annual Hour Burden: 38,783

Estimated Total Annual Cost: $3,314,442, which includes $2,601,624 in labor costs, $674,528 in capital/startup costs, and $38,290 in operating and maintenance costs.

(20) Emission Guidelines for Large Municipal Waste Combustors Constructed on or Before September 20, 1994 (40 CFR Part 60, Subpart Cb); Docket ID Number EPA-HQ-OECA-2012-0503; EPA ICR Number 1847.06; OMB Control Number 2060-0390; expiration date February 28, 2013.

Affected Entities: Entities potentially affected by this action are the owners or operators of large municipal waste combustors.

Abstract: The affected entities are subject to the General Provisions of the NSPS at 40 CFR part 62, subpart A and any changes, or additions to the General Provisions specified at 40 CFR part 60, subpart Cb.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 1,725 hours per response.

Respondents/Affected Entities: Owners or operators of large municipal waste combustors

Estimated Number of Respondents: 81

Frequency of Response: Semiannually and annually

Estimated Total Annual Hour Burden: 394,954

Estimated Total Annual Cost: $50,457,165, which includes $48,901,965 in labor costs, no capital/startup costs, and $1,555,200 in operating and maintenance costs.

(21) NESHAP for Miscellaneous Organic Chemical Manufacturing (40 CFR Part 63, Subpart FFFF); Docket ID Number: EPA-HQ-OECA-2012-0519; EPA ICR Number 1969.05; OMB Control Number 2060-0533; expiration date February 28, 2013.

Affected Entities: Entities potentially affected by this action are the owners or operators of miscellaneous organic chemical manufacturing facilities.

Abstract: The affected entities are subject to the General Provisions of the NESHAP at 40 CFR part 63, subpart A, and any changes, or additions to the General Provisions specified at 40 CFR part 63, subpart FFFF.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 254 hours per response.

Respondents/Affected Entities: Miscellaneous organic chemical manufacturing facilities

Estimated Number of Respondents: 257

Frequency of Response: Initially, occasionally and semiannually

Estimated Total Annual Hour Burden: 416,830

Estimated Total Annual Cost: $41,436,793, which includes $35,303,884 in labor costs, $670,256 in capital/startup costs, and $5,462,653 in operating and maintenance costs.

(22) NESHAP for Paints and Allied Products Manufacturing Area Source Category (40 CFR Part 63, Subpart CCCCCCC); Docket ID Number: EPA-HQ-OECA-2012-0527; EPA ICR Number 2348.03; OMB Control Number 2060-0633; expiration date February 28, 2013.

Affected Entities: Entities potentially affected by this action are the owners or operators of paints and allied products manufacturing facilities.

Abstract: The affected entities are subject to the General Provisions of the NESHAP at 40 CFR part 63, subpart A, and any changes, or additions to the General Provisions specified at 40 CFR part 63, subpart CCCCCCC.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 3 hours per response.

Respondents/Affected Entities: Paint and allied product manufacturing facilities

Estimated Number of Respondents: 2,190

Frequency of Response: Initially and annually

Estimated Total Annual Hour Burden: 4,618

Estimated Total Annual Cost: $880,818, which includes $880,818 in labor costs, no capital/startup costs, and no operating and maintenance costs.

(23) NESHAP for Chemical Manufacturing Area Sources (40 CFR Part 63, Subpart VVVVVV); Docket ID Number: EPA-HQ-OECA-2012-0525; EPA ICR Number 2323.04; OMB Control Number 2060-0621; expiration date February 28, 2013.

Affected Entities: Entities potentially affected by this action are the owners or operators of chemical manufacturing facilities.

Abstract: The affected entities are subject to the General Provisions of the NESHAP at 40 CFR part 63, subpart A, and any changes, or additions to the General Provisions specified at 40 CFR part 63, subpart VVVVVV.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 9 hours per response.

Respondents/Affected Entities: Chemical manufacturing facilities

Estimated Number of Respondents: 479

Frequency of Response: Semiannually

Estimated Total Annual Hour Burden: 10,586

Estimated Total Annual Cost: $905,135, which includes $806,864 in labor costs, $69,484 in capital/startup costs, and $28,787 in operating and maintenance costs.

(24) NESHAP for Asphalt Processing and Asphalt Roofing Manufacturing (40 CFR Part 63, Subpart AAAAAAA); Docket ID Number: EPA-HQ-OECA-2012-0496; EPA ICR Number 2352.03, OMB Control Number 2060-0634; expiration date February 28, 2013.

Affected Entities: Entities potentially affected by this action are the owners or operators of asphalt processing and roofing manufacturing facilities.

Abstract: The affected entities are subject to the General Provisions of the NESHAP at 40 CFR part 63, subpart A, and any changes, or additions to the General Provisions specified at 40 CFR part 63, subpart AAAAAAA.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 28 hours per response.

Respondents/Affected Entities: Asphalt processing and asphalt roofing manufacturing facilities

Estimated Number of Respondents: 75

Frequency of Response: Semiannually and annually

Estimated Total Annual Hour Burden: 4,147

Estimated Total Annual Cost: $713,081, which includes $672,254 in labor costs, $5,400 in capital/startup costs, and $35,427 in operating and maintenance costs.

EPA will consider any comments received and may amend any of the above ICRs, as appropriate. Then the final ICR packages will be submitted to OMB for review and approval pursuant to 5 CFR 1320.12. At that time, EPA will issue one or more Federal Register notices pursuant to 5 CFR 1320.5(a)(1)(iv) to announce the submission of the ICR(s) to OMB and the opportunity to submit additional comments to OMB. If you have any questions about any of the above ICRs or the approval process, please contact the person listed under FOR FURTHER INFORMATION CONTACT.

Dated: August 1, 2012.
Lisa C. Lund,
Director, Office of Compliance.

[FR Doc. 2012-19422 Filed 8-7-12; 8:45 am]

BILLING CODE 6560-50-P